SECURITIES AND EXCHANGE COMMISSION

Submission for OMB Review; Comment Request

Upon written request, copies available from: Securities and Exchange Commission, Office of Investor Education and Advocacy, Washington, DC 20549-0213.

Extension: Form N-54A, SEC File No. 270-182, OMB Control No. 3235-0237.

Notice is hereby given that, pursuant to the Paperwork Reduction Act of 1995 (44 U.S.C. 3501 et seq.), the Securities and Exchange Commission (“Commission”) has submitted to the Office of Management and Budget a request for extension of the previously approved collection of information discussed below.

• Form N-54A (17 CFR 274.53) under the Investment Company Act of 1940 (15 U.S.C. 80a-1 et seq.) (the “Act”); Notification of Election to be Subject to Sections 55 through 65 of the Investment Company Act of 1940 (15 U.S.C. 80a-54 through 64) Filed Pursuant to Section 54(a) of the Act (15 U.S.C. 80a-53(a)).

Form N-54A is the notification to the Commission of election to be regulated as a business development company. A company making such an election only has to file a Form N-54A once.

It is estimated that approximately 6 respondents per year file with the Commission a Form N-54A. Form N-54A requires approximately 0.5 burden hours per response resulting from creating and filing the information required by the Form. The total burden hours for Form N-54A would be 3.0 hours per year in the aggregate. The estimated annual burden of 3.0 hours represents a decrease of 20.0 hours over the prior estimate of 23.0 hours. The decrease in burden hours is attributable to a decrease in the number of respondents from 46 to 6.

The estimate of average burden hours for Form N-54A is made solely for the purposes of the PRA and is not derived from a comprehensive or even representative survey or study of the cost of Commission rules and forms.

The collection of information under Form N-54A is mandatory. The information provided by the Form is not kept confidential. An agency may not conduct or sponsor, and a person is not required to respond to, a collection of information unless it displays a currently valid control number.

Please direct general comments regarding the above information to the following persons: (i) Desk Officer for the Securities and Exchange Commission, Office of Management and Budget, Room 10102, New Executive Office Building, Washington, DC 20503 or e-mail to: nfraser@omb.eop.gov; and (ii) Lewis W. Walker, Acting Director/CIO, Securities and Exchange Commission, c/o Shirley Martinson, 6432 General Green Way, Alexandria, VA 22312; or send an e-mail to: PRA_Mailbox@sec.gov. Comments must be submitted to OMB within 30 days of this notice.

Dated: December 10, 2008.
Florence E. Harmon,
Acting Secretary.

[FR Doc. E8-29969 Filed 12-17-08; 8:45 am]

BILLING CODE 8011-01-P